DEPARTMENT OF ENERGY

Federal Energy Regulatory Commission

[Docket No. IC12-8-000]

Commission Information Collection Activities (FERC-567); Comment Request

AGENCY: Federal Energy Regulatory Commission, Energy.

ACTION: Comment request.

SUMMARY: In compliance with the requirements of the Paperwork Reduction Act of 1995, 44 United States Code (U.S.C.) 3507(a)(1)(D), the Federal Energy Regulatory Commission (Commission or FERC) is submitting the information collection FERC-567, Gas Pipeline Certificates: Annual Reports of System Flow Diagrams and System Capacity to the Office of Management and Budget (OMB) for review of the information collection requirements. Any interested person may file comments directly with OMB and should address a copy of those comments to the Commission as explained below. The Commission issued a Notice in the Federal Register (77 FR 11520, 02/27/2012) requesting public comments. FERC received no comments on the FERC-567 and is making this notation in its submittal to OMB.

DATES: Comments on the collection of information are due by July 16, 2012.

ADDRESSES: Comments filed with OMB, identified by the OMB Control No. 1902-0005, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC12-8-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-567, Gas Pipeline Certificates: Annual Reports of System Flow Diagrams and System Capacity.

OMB Control No.: 1902-0005.

Type of Request: Three-year extension of the FERC-567 information collection requirements with no changes to the reporting requirements.

Abstract: The Commission uses the information from the FERC-567 to obtain accurate data on pipeline facilities and the peak capacity of these facilities. Additionally, the Commission validates the need for new facilities proposed by pipelines in certificate applications. By modeling a applicant's pipeline system, Commission staff utilizes the FERC-567 data to determine configuration and location of installed pipeline facilities; verify and determine the receipt and delivery points between shippers, producers and pipeline companies; determine the location of receipt and delivery points and emergency interconnections on a pipeline system; determine the location of pipeline segments, laterals and compressor stations on a pipeline system; verify pipeline segment lengths and pipeline diameters; justify the maximum allowable operating pressures and suction and discharge pressures at compressor stations; verify the installed horsepower and volumes compressed at each compressor station; determine the existing shippers and producers currently using each pipeline company; verify peak capacity on the system; and develop and evaluate alternatives to the proposed facilities as a means to mitigate environmental impact of new pipeline construction.

18 Code of Federal Regulations (CFR) 260.8(a) requires each major natural gas pipeline with a system delivery capacity exceeding 100,000 Mcf per day to submit by June 1 of each year, diagrams reflecting operating conditions on the pipeline's main transmission system during the previous 12 months ended December 31. These physical/engineering data are not included as part of any other data collection requirement.

Type of Respondents: Applicants proposing hydropower projects on (or changes to existing projects located within) lands owned by the United States.

Estimate of Annual Burden: ¹ The Commission proposed an erroneous burden estimate on the 60-day notice ² for this information collection. The Commission estimates the corrected total Public Reporting Burden for this information collection as:

¹ Burden is defined as the total time, effort, or financial resources expended by persons to generate, maintain, retain, or disclose or provide information to or for a Federal agency. For further explanation of what is included in the information collection burden, reference 5 Code of Federal Regulations 1320.3.

² 77 FR 11520 (2/27/2012)

FERC-567 (IC12-8-000): Gas Pipeline Certificates: Annual Reports of System Flow Diagrams and System Capacity
| Number of respondents | Number of responses per respondent | Total number of responses | Average burden hours per response | Estimated total annual burden
| (A) | (B) | (A) × (B) = (C) | (D) | (C) × (D)
Data Proposed on 60-day notice ² for FERC-567
Natural Gas Pipelines | 103 | 1 | 103 | 1 | 103
Corrected Data Proposed for FERC-567
Natural Gas Pipelines | 103 | 1 | 103 | 55 | 5,665

The Commission revised the erroneous figures (presented within the 60-day notice for this information collection ²) based on an improved internal analysis. We were remiss in our previous analysis that resulted in the underestimated burden calculation.

The total estimated annual cost burden to respondents is $ [5,665 hours ÷ 2,080 ³ hours/year = 2.72355 * $143,540/year ⁴ = $390,938.37]

³ 2080 hours = 40 hours/week * 52 weeks (1 year).

⁴ Average annual salary per employee in 2012.

The estimated annual cost of filing the FERC-567 per response is $3,795.52 [$390,938.37 ÷ 103 responses = $3,795.52/response].

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: June 1, 2012.
Nathaniel J. Davis, Sr.,
Deputy Secretary.

[FR Doc. 2012-14516 Filed 6-13-12; 8:45 am]

BILLING CODE 6717-01-P